DEPARTMENT OF THE TREASURY

Office of the Comptroller of the Currency

12 CFR Part 27

[Docket ID OCC-2025-0405]

RIN 1557-AF42

Fair Housing Home Loan Data System

AGENCY: Office of the Comptroller of the Currency, Treasury.

ACTION: Notice of proposed rulemaking.

SUMMARY: The Office of the Comptroller of the Currency (OCC) invites public comment on a notice of proposed rulemaking (proposed rule) to rescind its Fair Housing Home Loan Data System regulation codified at 12 CFR part 27. The OCC has determined that the regulation is obsolete and largely duplicative of and inconsistent with other legal authorities that require national banks to collect and retain certain information on applications for home loans. Moreover, part 27 imposes asymmetrical data collection requirements on national banks compared to their other depository institution counterparts, and the data collected has limited utility. For these reasons, rescinding the regulation would eliminate the regulatory burden attributable to part 27 for national banks without having a material impact on the availability of data necessary for the OCC to conduct its fair housing-related supervisory activities.

DATES: Comments must be received on or before December 18, 2025.

ADDRESSES: Commenters are encouraged to submit comments through the Federal eRulemaking Portal. Please use the title “Fair Housing Home Loan Data System” to facilitate the organization and distribution of the comments. You may submit comments by any of the following methods:

• Federal eRulemaking Portal—Regulations.gov:

Go to https://regulations.gov/. Enter Docket ID “OCC-2025-0405” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. EST, or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and Docket ID “OCC-2025-0405” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov:

Go to https://regulations.gov/. Enter Docket ID “OCC-2025-0405” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday, 9 a.m.-5 p.m. EST, or email regulationshelpdesk@gsa.gov.

The docket may be viewed after the close of the comment period in the same manner as during the comment period.

FOR FURTHER INFORMATION CONTACT: Emily Boyes, Counsel, (202) 649-5490; Sadia Chaudhary, Counsel, (202) 649-5122; Daniel Borman, Counsel, 202 649-6929; Chief Counsel's Office, Office of the Comptroller of the Currency, 400 7th Street SW, Washington, DC 20219. If you are deaf, hard of hearing, or have a speech disability, please dial 7-1-1 to access telecommunications relay services.

SUPPLEMENTARY INFORMATION:

I. Background

The OCC is proposing to rescind its Fair Housing Home Loan Data System regulation codified at 12 CFR part 27.¹ The OCC issued part 27 in 1979 to provide a basis for a more effective fair housing monitoring program for home loans.² The OCC's issuance of part 27 also assisted with implementation of certain parts of the settlement reached in National Urban League et al., v. Office of the Comptroller of the Currency et al.³ Part 27 established recordkeeping requirements and a data collection system for monitoring national banks and any of their subsidiaries ⁴ (national banks) ⁵ for compliance with the Fair Housing Act ⁶ and the Equal Credit Opportunity Act.⁷ Specifically, part 27 requires national banks to (i) engage in quarterly recordkeeping of certain home loan data if the national bank is required to report loans under the Home Mortgage Disclosure Act ⁸ (HMDA reporters) or if the national bank is a non-HMDA reporter that receives 50 or more home loan ⁹ applications a year, as applicable; ¹⁰ (ii) attempt to obtain all of the prescribed information for applications for home loans; ¹¹ (iii) maintain certain additional information in loan files; ¹² and (iv) collect certain information on a log, if the OCC orders the national bank to maintain a log of inquiries and applications.¹³

¹ 44 FR 63084 (Nov. 2, 1979) as amended at 49 FR 11825 (Mar. 28, 1984), 59 FR 26415 (May 20, 1994), 73 FR 22251 (Apr. 24, 2008).

² 44 FR 63084 (Nov. 2, 1979).

³ See National Urban League, et al. v. Office of the Comptroller of the Currency, et al., 78 FRD. 543, 544 (D.D.C. May 3, 1978); 44 FR 63084 (Nov. 2, 1979). The settlement agreement expressly provides that the terms expired in three years, and do not currently obligate the OCC to maintain part 27. See National Urban League, et al. v. Office of the Comptroller of the Currency, et al., Settlement Agreement at 531, No. 76-0718 (D.D.C. Mar. 23, 1977).

⁴ As originally promulgated, the regulation also applied to banks located in the District of Columbia. The OCC amended part 27 in 2008 to remove banks chartered in Washington, DC from the scope of the regulation since those entities are no longer national banks. See 73 FR 22216, 22232 (Apr. 24, 2008).

⁵ The regulation defines the term “bank” as “a national bank and any subsidiaries of a national bank.” See 12 CFR 27.2(c). However, this SUPPLEMENTARY INFORMATION uses the term “national bank” in place of the defined term “bank” to improve readability and distinguish the relevant data requirements applicable to national banks from those applicable to other types of depository institutions.

⁶ 42 U.S.C. 3601 et seq.

⁷ 15 U.S.C. 1691 et seq.

⁸ 12 U.S.C. 2801 et seq.

⁹ A home loan, as defined in part 27, is “a real estate loan for the purchase, permanent financing for construction, or the refinancing of residential real property which the applicant intends to occupy as a principal residence.” 12 CFR 27.2(f).

¹⁰ 12 CFR 27.3.

¹¹ 12 CFR 27.3.

¹² 12 CFR 27.5.

¹³ 12 CFR 27.4.

When part 27 was promulgated in 1979, the principal purpose of the regulation was to provide for the collection and retention of information necessary to establish a valid statistical analysis of national banks' home lending decisions without placing an undue burden upon the national banks subject to the rule.¹⁴ At the time the rule was promulgated, the OCC stated that it would engage in reviews of the efficiency and effectiveness of the regulatory requirements.¹⁵ Recently, the OCC has undertaken such a review as part of its ongoing efforts to tailor bank supervision and regulation.¹⁶

¹⁴ 44 FR 63084, 63085 (Nov. 2, 1979).

¹⁵ 44 FR 63084, 63085 (Nov. 2, 1979). Specifically, in response to comments that the OCC should include more data collection requirements under part 27, the agency explained its reasoning for limiting the data collection requirements and stated that “the Comptroller will regularly review the efficiency and effectiveness of [the data collection] requirements, as well as the value of statistical analysis through the use of electronic data processing, to determine whether the regulatory scope should be reexamined in the future.” While this statement was made in contemplation of a future review of the regulatory scope of the regulation to determine whether more data should be collected under part 27, the conclusions drawn from the OCC's review of the efficiency and effectiveness of a regulation will depend on the particular facts, which the OCC believes weigh in favor of rescission in this instance.

¹⁶ See Executive Order 14192, 90 FR 9065 (Feb. 6, 2025). The OCC also regularly conducts reviews under the Economic Growth and Regulatory Paperwork Reduction Act of 1996, Public Law 104-208 (1996) (EGRPRA). The OCC received a public comment pursuant to its 2014-17 EGRPRA review suggesting that the OCC could reduce regulatory burden by removing part 27. See Federal Financial Institutions Examination Council Joint Report to Congress, Economic Growth and Regulatory Paperwork Reduction Act, (March 2017) (commenter noting that the regulation has not been updated since 1994, that the regulation is duplicative of the HMDA and Fair Housing Act, and that the regulation is outdated because it refers to the Board's Regulation C and not the CFPB's HMDA rule).

The OCC has determined that part 27 is obsolete because it is largely duplicative of and inconsistent with revisions to other legal authorities that require national banks to collect and retain certain information on applications for home loans. In addition, because part 27 only applies to national banks, national banks have more home loan data collection requirements than other depository institutions. Moreover, the burden the rule imposes on national banks is not justified by the limited utility of data collected under part 27. Also, when part 27 was promulgated, the OCC stated that the regulation's requirements were designed to assist agency examiners in performing full and complete fair housing examinations. However, since then, the OCC has found that agency examiners generally base their fair lending supervisory activities on data collected under other legal authorities that require national banks to collect and maintain information on applications for home loans. To the extent OCC examiners may consider part 27 data, it is most useful for assessing a national bank's fair lending risk; however, the OCC has other tools for identifying fair lending risk at national banks. The OCC believes that the proposed recission of part 27, therefore, would not have a material impact on the availability of data necessary for the OCC to conduct its fair housing supervisory activities. For these reasons, as explained in greater detail below, the OCC is proposing to rescind the regulation—thereby eliminating the regulatory burden attributable to part 27 for national banks.

Duplicative Requirements. Part 27 is largely duplicative of the HMDA and its implementing regulation, Regulation C,¹⁷ and Regulation B,¹⁸ which implements the Equal Credit Opportunity Act (ECOA).¹⁹ For example, under part 27, HMDA reporters are required to maintain reasons for denial of a loan application, but HMDA reporters are already required to provide this information pursuant to Regulation C.²⁰ Additionally, many of the categories of information that all national banks must collect and maintain under 12 CFR 27.3(b) are already provided by HMDA reporters under Regulation C.²¹

¹⁷ 12 CFR part 1003.

¹⁸ 12 CFR part 1002.

¹⁹ As part of the Dodd-Frank Wall Street Reform and Consumer Protection Act (Dodd-Frank), rulemaking authority pursuant to HMDA and ECOA shifted from the Federal Reserve Board (Board) to the Consumer Financial Protection Bureau (CFPB). Public Law 111-203, 124 Stat. 1376 (July 21, 2010). Dodd-Frank also required the CFPB to amend Regulation C. The CFPB amended Regulation C, and subsequently Regulation B to conform to revised Regulation C. See 80 FR 66128 (Oct. 28, 2015); 82 FR 43088 (Sept. 13, 2017).

²⁰ See 12 CFR 27.3(a)(1)(i); See also 12 CFR 1003.4(a)(16).

²¹ Compare data points required by 12 CFR 27.3(b) with data points required under 12 CFR 1003.4.

Regulatory Inconsistencies. There are several inconsistencies between part 27 and Regulations B and C, particularly concerning collection and reporting of ethnicity and race data. These inconsistencies stem from the fact that the OCC has not materially updated part 27 since 1994,²² despite substantive and jurisdictional changes to Regulations B and C in the intervening years. Specifically, Regulations B and C require ethnicity data to be reported under two aggregate categories: Hispanic or Latino; and Not Hispanic or Latino. Regulations B and C also require race data to be reported under the following five aggregate categories: American Indian or Alaska Native; Asian; Black or African American; Native Hawaiian or Other Pacific Islander; and White. In contrast, part 27 requires the collection of race and national origin under the following six categories: American Indian or Alaskan Native; Asian or Pacific Islander; Black, not of Hispanic origin; White, not of Hispanic origin; Hispanic; Other. Because part 27 does not separate race from ethnicity, its reporting of that data could conflict with the requirements of Regulations B and C. For example, an applicant who self-identifies as “Hispanic” and “White” under Regulation B's and C's separate categories for ethnicity and race, respectively, would have to self-identify as “Other” under part 27. Part 27 also requires less granular information collection than required under Regulation C, which uses more specific categories for ethnicity and race.²³ Specifically, under Regulation C, the Hispanic or Latino category is divided into the following four subcategories: Mexican; Puerto Rican; Cuban; and Other Hispanic or Latino. In addition, the Asian and the Native Hawaiian or Other Pacific Islander aggregate categories have seven and four subcategories, respectively. The Asian race subcategories are: Asian Indian; Chinese; Filipino; Japanese; Korean; Vietnamese; and Other Asian. The Native Hawaiian or Other Pacific Islander race subcategories are: Native Hawaiian; Guamanian or Chamorro; Samoan; and Other Pacific Islander. Under Regulation B, a national bank that is a non-HMDA reporter may generally collect ethnicity and race data using either the aggregate race and ethnicity categories described in Regulations B and C or using the more detailed subcategories set forth in Regulation C.²⁴ Therefore, the requirement in part 27 to collect aggregate data can require different and inconsistent requirements than those imposed by Regulations B and C.

²² In 2008, the OCC amended part 27 to remove banks chartered in Washington, DC from the scope of the regulation since those entities are no longer national banks. See 73 FR 22216, 22232 (Apr. 24, 2008).

²³ Compare for example, the data collection requirements under 12 CFR 27.3(b)(1) with the data collection requirements under Regulation B (12 CFR 1002.5, 1002.13) and Regulation C (12 CFR 1003.4).

²⁴ See 12 CFR 1002.13(a)(1)(i).

Asymmetric Data Requirements. Despite the duplication and inconsistencies with Regulations B and C, part 27 requires national banks to collect and maintain certain unique data. However, this data is not uniformly collected for all depository institutions due to the lack of parallel regulatory requirements. With respect to OCC-regulated institutions, part 27 does not apply to Federal savings associations, nor is there a comparable regulation applicable to Federal savings associations. In addition, the other Federal prudential regulators—the Board and the Federal Deposit Insurance Corporation (FDIC)—do not have regulations that require the separate collection of home loan data from their supervised institutions and rely largely on the data collected pursuant to Regulations B and C to conduct fair lending analyses. Therefore, because part 27 only applies to national banks, national banks have more home loan data collection requirements than other depository institutions.

Limited Utility. The OCC considered whether, notwithstanding the issues discussed above, the unique data collection and maintenance requirements of part 27 offer a sufficient countervailing benefit when compared to the regulatory burden imposed on national banks by the rule. After considering how the OCC uses home loan data in its supervisory activities, the OCC believes that any burden the rule imposes on national banks is not justified by the limited utility of data collection under part 27. Specifically, the OCC largely utilizes information collected pursuant to the HMDA and ECOA to conduct its supervisory activities. The OCC only considers part 27 data in limited circumstances where the data requirements do not overlap. Further, as noted above, part 27 data is most useful in helping to assess fair lending risk, and any resulting fair lending examinations would require the OCC to engage in sampling to obtain necessary home loan data.

Specifically, with regard to the subset of national banks that are non-HMDA reporters and originate more than 50 loans annually, the OCC may obtain the information that part 27 currently requires these national banks to collect pursuant to the agency's general supervisory authority and its supervisory authority under the Fair Housing Act and ECOA.²⁵ Therefore, national banks' collection and maintenance of home loan data under part 27 have limited utility for the OCC when considering the related burden on national banks. Moreover, while the removal of part 27 would reduce regulatory burden for all national banks, the main benefactors of this burden reduction would be non-HMDA reporters that originate more than 50 loans annually, which are typically smaller national banks. This is because HMDA-reporters will continue to collect and maintain required home loan data in accordance with Regulations B and C.

²⁵ 12 U.S.C. 481; 12 CFR part 4.

Part 27 data also has limited utility for external stakeholders. Specifically, the part 27 data requirements are collection and maintenance requirements. Unlike the HMDA data, part 27 data is not publicly available. Therefore, removal of part 27 would not result in a reduction in the data available for external stakeholders' home loan data analysis.

Alternatives Considered. The OCC considered, as an alternative, revising part 27 to bring it into conformity with Regulations B and C. However, the OCC believes rescission is the better approach because, even if the OCC updated the regulation to conform with Regulations B and C, part 27 would still be largely duplicative of those other regulations and the utility of the non-duplicative data does not outweigh the regulatory burden on national banks to collect and maintain that data.

Request for Comment. For the reasons discussed above, the OCC is proposing to rescind part 27 in its entirety. The OCC invites comments on all aspects of the proposal to rescind part 27 discussed in this SUPPLEMENTARY INFORMATION.

II. Regulatory Analysis

Paperwork Reduction Act

Under the Paperwork Reduction Act of 1995 (PRA),²⁶ the OCC may not conduct or sponsor, and a respondent is not required to respond to, an information collection unless it displays a currently valid Office of Management and Budget (OMB) control number. The OCC has reviewed the notice of proposed rulemaking and determined that it would not create any new or revise any existing, collections of information under the PRA and therefore, require no PRA filings, other than a discontinuance request to OMB for the currently approved “Fair Housing Home Loan Data System Regulation (1557-0159)” information collection following the finalization of the rule.

²⁶ 44 U.S.C. 3501-3521.

Title of Information Collection: Fair Housing Home Loan Data System Regulation.

OMB control number: 1557-0159.

Affected Public: Businesses or other for-profit.

Description: Under the current 12 CFR part 27 certain national banks are required to record certain home loan data home loan data if they: (1) are otherwise required to maintain and report data pursuant to Regulation C,²⁷ which implements HMDA,²⁸ in which case they are HMDA reporters or (2) receive more than 50 home loan applications annually. Specifically, national banks that are HMDA reporters meet the part 27 requirement by recording HMDA data along with the reasons for denying any loan application on the HMDA Loan Application/Register (LAR).²⁹ A national bank that is not a HMDA reporter but that receives more than 50 home loan applications annually must comply with part 27 by either: (1) recording and reporting HMDA data and denial reasons on the LAR as if they were a HMDA reporter ³⁰ or (2) recording and maintaining part 27-specified activity data relating to aggregate numbers of certain types of loans by geography and action taken.³¹ Part 27 also requires that all national banks, including those not subject to the recording requirements, to maintain certain application and loan information in loan files. Part 27 further provides that the OCC may require national banks to maintain and submit additional information if there is reason to believe that the bank engaged in discrimination.

²⁷ 12 CFR part 1003.

²⁸ 12 U.S.C. 2801 et seq.

²⁹ 12 CFR 27.3(a)(1)(i).

³⁰ 12 CFR 27.3(a)(5).

³¹ 12 CFR 27.3(a)(2).

Current Burden

Number of Respondents: 702.

Total Annual Burden: 12,632 hours.

Regulatory Flexibility Act Analysis

The Regulatory Flexibility Act (RFA), 5 U.S.C. 601 et seq., requires an agency, in connection with a proposed rule, to prepare an Initial Regulatory Flexibility Analysis describing the impact of the rule on small entities (defined by the Small Business Administration (SBA) for purposes of the RFA to include commercial banks and savings institutions with total assets of $850 million or less and trust companies with total assets of $47 million or less) or to certify that the proposed rule would not have a significant economic impact on a substantial number of small entities. The OCC currently supervises approximately 609 small entities.³²

³² The OCC bases the estimate of the number of small entities on the Small Business Administration's size thresholds for commercial banks and savings institutions (NAICS Code: 522110), and trust companies (NAICS Code: 523991), which are $850 million and $47 million, respectively. Consistent with the General Principles of Affiliation 13 CFR 121.103(a), the OCC counts the assets of affiliated financial institutions when determining whether to classify an OCC-supervised institution as a small entity. The OCC uses December 31, 2024, to determine size because a “financial institution's assets are determined by averaging the assets reported on its four quarterly financial statements for the preceding year.” See footnote 8 of the U.S. Small Business Administration's Table of Size Standards.

The OCC estimates that the proposed rule would not have a significant economic impact on a substantial number of small entities, as the proposed rule would rescind an existing regulation and does not contain any new mandates. Accordingly, an Initial Regulatory Flexibility Analysis is not required, and the OCC certifies that the proposed rule would not have a significant economic impact on a substantial number of small entities.

Unfunded Mandates Reform Act of 1995

The OCC analyzed the proposed rule under the factors set forth in the Unfunded Mandates Reform Act of 1995 (UMRA) (2 U.S.C. 1532). Under this analysis, the OCC considered whether the proposed rule includes a Federal mandate that may result in the expenditure by State, local, and Tribal governments, in the aggregate, or by the private sector, of $100 million or more in any one year (adjusted for inflation). Because the proposed rule would rescind or amend existing regulations and does not contain any new mandates, the OCC estimates that the proposed rule would not result in an expenditure of $100 million or more annually by State, local, and Tribal governments, or by the private sector (adjusted for inflation). The OCC estimates that the costs associated with proposed rule, if finalized as proposed, would be de minimis. Accordingly, the OCC has not prepared the written statement described in section 202 of the UMRA.

Riegle Community Development and Regulatory Improvement Act of 1994

Pursuant to section 302(a) of the Riegle Community Development and Regulatory Improvement Act of 1994,³³ in determining the effective date and administrative compliance requirements for new regulations that impose additional reporting, disclosure, or other requirements on insured depository institutions, the OCC will consider, consistent with the principles of safety and soundness and the public interest: (1) any administrative burdens that the proposed rule would place on depository institutions, including small depository institutions and customers of depository institutions and (2) the benefits of the proposed rule. The OCC requests comment on any administrative burdens that the proposed rule would place on depository institutions, including small depository institutions and their customers, and the benefits of the proposed rule that the OCC should consider in determining the effective date and administrative compliance requirements for a final rule.

³³ 12 U.S.C. 4802(a).

Providing Accountability Through Transparency Act of 2023

The Providing Accountability Through Transparency Act of 2023 ³⁴ requires that a notice of proposed rulemaking include the internet address of a summary of not more than 100 words in length of a proposed rule, in plain language, that shall be posted on the internet website www.regulations.gov.

³⁴ 12 U.S.C. 553(b)(4).

The OCC invites public comment on a proposed rule to rescind the Fair Housing Home Loan Data System regulation codified at 12 CFR part 27 to remove any conflict with Regulations B and C or duplication for national banks.

The proposal and the required summary can be found at https://www.regulations.gov by searching for Docket ID OCC-2025-0405 and https://occ.gov/topics/lawsfdo-and-regulations/occ-regulations/proposed-issuances/index-proposed-issuances.html.

Executive Orders 12866 and 14192

Executive Order 12866, titled “Regulatory Planning and Review,” as amended, requires the Office of Information and Regulatory Affairs (OIRA), Office of Management and Budget, to determine whether a proposed rule is a “significant regulatory action.” If OIRA finds the proposed rule to be a “significant regulatory action,” Executive Order 12866 requires the OCC to conduct a regulatory impact analysis (RIA) of the rule, which includes a cost-benefit analysis, and for OIRA to conduct a review of the proposed rule prior to the disclosure of the proposed rule to the public. Executive Order 12866 defines “significant regulatory action” to mean a regulatory action that is likely to (1) have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in Executive Order 12866.

Executive Order 12866, as amended, provides that OIRA will review all “significant regulatory actions” as defined therein. OIRA has determined that this proposal is not a “significant regulatory action” for purposes of Executive Order 12866.

Executive Order 14192, titled “Unleashing Prosperity Through Deregulation,” separately requires that an agency, unless prohibited by law, identify at least 10 existing regulations to be repealed when the agency publicly proposes for notice and comment or otherwise promulgates a new regulation with total costs greater than zero. Executive Order 14192 further requires that new incremental costs associated with new regulations shall, to the extent permitted by law, be offset by the elimination of existing costs associated with at least ten prior regulations. The OCC expects the proposed rule will be a deregulatory action under Executive Order 14192 because it would potentially result in costs savings for affected OCC-supervised institutions.

List of Subjects in 12 CFR Part 27

Civil rights, Credit, Fair housing, Mortgages, National banks, Reporting and recordkeeping requirements.

PART 27—[REMOVED AND RESERVED]

For the reasons stated in the preamble, under the authority of 12 U.S.C. 93a, the OCC proposes to remove and reserve 12 CFR part 27.

Jonathan V. Gould,
Comptroller of the Currency.

[FR Doc. 2025-20202 Filed 11-17-25; 8:45 am]

BILLING CODE 4810-33-P